SECURITIES AND EXCHANGE COMMISSION

[OMB Control No. 3235-0728]

Agency Information Collection Activities; Submission for OMB Review; Comment Request; Extension: Rule 17ab2-2

Upon Written Request, Copies Available From: Securities and Exchange Commission, Office of FOIA Services, 100 F Street NE, Washington, DC 20549-2736

Notice is hereby given that, pursuant to the Paperwork Reduction Act of 1995 (44 U.S.C. § 3501 et seq.), the Securities and Exchange Commission (SEC or “Commission”) is submitting to the Office of Management and Budget (OMB) this request for extension of the proposed collection of information provided for in Rule 17ab2-2 (17 CFR 240.17ab2-2) under the Securities Exchange Act of 1934 (15 U.S.C. 78a et seq.).

Exchange Act Rule 17ab2-2 establishes procedures for making determinations affecting covered clearing agencies in certain defined circumstances. Exchange Act Rule 17ab2-2(a) establishes procedures for the Commission to make a determination, either of its own initiative or upon application by any clearing agency or member of a clearing agency, whether a covered clearing agency is systemically important in multiple jurisdictions. Exchange Act Rule 17ab2-2(b) establishes procedures to determine, if the Commission deems appropriate, whether any of the activities of a clearing agency providing central counterparty services, in addition to clearing agencies registered with the Commission for the purpose of clearing security-based swaps, have a more complex risk profile. Exchange Act Rule 17ab2-2(c) provides a procedure for the Commission to determine, either of its own initiative or upon application by any clearing agency or member of a clearing agency, whether to rescind any such determinations previously made by the Commission.

A clearing agency or one of its members that seeks a determination from the Commission under Rule 17ab2- or rescission of any determination previously made by the Commission under Rule 17ab2-2 must submit an application to the Commission. A respondent would have the burden of preparing such application for submission to the Commission. The Commission would use the information in the collection to facilitate its determination regarding systemic importance in multiple jurisdictions or a recission of a determination. It is unlikely that confidential information would be included in the collection of information, but such information received would be kept confidential subject to provisions of the Freedom of Information Act.

Commission staff believes that Rule 17ab2-2 would impose a PRA burden on a clearing agency that applies for a determination from the Commission under the rule. Commission staff estimate that two respondent clearing agencies (or a member of a clearing agency) could submit an application for such a determination.

Commission staff estimates that each respondent clearing agency incurs a one-time burden of 10 hours and a one-time cost of $2,190 to draft and review a determination request submitted to the Commission, for a total of 20 hours and $4,380 for all respondents. The total annualized burden and cost for all respondents are 6.66 hours and $1,460.

An agency may not conduct or sponsor, and a person is not required to respond to, a collection of information unless it displays a currently valid OMB Control Number.

The public may view and comment on this information collection request at: https://www.reginfo.gov/public/do/PRAViewICR?ref_nbr=202511-3235-003 or email comment to MBX.OMB.OIRA.SEC_desk_officer@omb.eop.gov within 30 days of the day after publication of this notice, by March 2, 2026.

Dated: January 26, 2026.
Sherry R. Haywood,
Assistant Secretary.

[FR Doc. 2026-01659 Filed 1-27-26; 8:45 am]

BILLING CODE 8011-01-P